DEPARTMENT OF DEFENSE

Office of the Secretary

Proposed Collection; Comment Request

AGENCY: Department of Defense, Office of the Under Secretary of Defense (Acquisition, Technology, and Logistics)/Defense Technical Information Center.

ACTION: Notice.

In compliance with section 3506(c)(2)(A) of the Paperwork Reduction Act of 1995, the Defense Technical Information Center (DTIC), announces the proposed extension of a currently approved collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by June 4, 2001.

ADDRESSES: Interested parties should submit written comments and recommendations on the proposed information collection to: Defense Technical Information Center, ATTN: DTIC-B, 8725 John J. Kingman Road, Suite 0944, Fort Belvoir, VA 22060-6218; E-mail comments submitted via the Internet should be addressed to: rridenho@dtic.mil.

FOR FURTHER INFORMATION CONTACT: To request further information on this proposed information collection, or to obtain a copy of the proposal and associated collection instrument, please write to the above address or call Mr. Rex Ridenhower at (703) 767-8210.

Title, Associated Form, and OMB Number: Customer Satisfaction Survey, Generic Clearance, OMB Control Number 0704-0403.

Needs and Uses: The information collection is necessary to provide the Defense Technical Information Center (DTIC) with satisfaction data about the timeliness, use, and quality of its products and services in order to establish a customer satisfaction baseline; assist in determining appropriate modifications to current products and services; and contribute to DTIC's product development efforts. It will allow DTIC to compile customer data which does not currently exist.

Information gathered from discussions with customers is maintained in various nondigital formats but is not considered to be quantifiable in terms of customer satisfaction factors because of its anecdotal nature. Because DTIC offers 23 products and services to approximately 3,700 registered users, no cheaper method exists to collect this data other than a survey instrument. These surveys are required to implement Executive Order 12862, “Setting Customer Service Standards.” Respondents are DTIC registered users who are Department of Defense contractors and potential contractors; U.S. Government organizations and their contractors; and participants in the Small Business Innovation Research/Small Business, Technology Transfer, Historically Black Colleges and Universities, and University Research Support programs.

Affected Public: Business or Other For-Profit; Not-For Profit Institutions.

Number of Annual Respondents: 1,383.

Annual Responses To Respondent: 2.

Annual Responses: 2,766.

Average Burden per Response: 10 Minutes.

Annual Burden Hours: 474.

Frequency: On occasion.

SUPPLEMENTARY INFORMATION:

Summary of Information Collection

Respondents are registered DTIC users who provide valuable usage and satisfaction data for products, services and customer care. The data collected is critical to enhancing the utility and quality of existing products and services and improving the delivery of customer care. If the data is not collected, senior agency managers will not have the information necessary to develop, enhance and or reengineer products, services, and processes from the customer's perspective.

Dated: March 28, 2001.
Patricia L. Toppings,
Alternate OSD Federal Register Liaison Officer, Department of Defense.

[FR Doc. 01-8203 Filed 4-3-01; 8:45 am]

BILLING CODE 5001-10-M